DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

DATE AND TIME: December 18, 2025, 10:00 a.m.

PLACE: Room 2C, 888 First Street NE, Washington, DC 20426. Open to the public.

STATUS: Open.

MATTERS TO BE CONSIDERED: Agenda.

* Note—Items listed on the agenda may be deleted without further notice.

CONTACT PERSON FOR MORE INFORMATION: Debbie-Anne A. Reese, Secretary, Telephone (202) 502-8400.

For a recorded message listing items Stricken from or added to the meeting, call (202) 502-8627.

This is a list of matters to be considered by the Commission. It does not include a listing of all documents relevant to the items on the agenda. All public documents, however, may be viewed online at the Commission's website at https://elibrary.ferc.gov/eLibrary/search using the eLibrary link.

1131st—Meeting
[Open; December 18, 2025; 10:00 a.m.]
Item No. | Docket No. | Company
Administrative
A-1 | AD26-1-000 | Agency Administrative Matters.
A-2 | AD26-2-000 | Customer Matters, Reliability, Security and Market Operations.
Electric
E-1 | EL25-49-000 | PJM Interconnection, L.L.C.
| EL25-49-001 | Allegheny Electric Cooperative, Inc., American Transmission Systems, Incorporated, Atlantic City Electric Company, Baltimore Gas and Electric Company, Delmarva Power & Light Company, Duke Energy Ohio, Inc., Duke Energy Kentucky, Inc., East Kentucky Power Cooperative, Inc., Essential Power Rock Springs, LLC, Hudson Transmission Partners, LLC, Jersey Central Power & Light Company, Mid-Atlantic Interstate Transmission, LLC, Neptune Regional Transmission System, LLC, Old Dominion Electric Cooperative, PECO Energy Company, PPL Electric Utilities Corporation, Potomac Electric Power Company, Public Service Electric and Gas Company, Rockland Electric Company, Trans-Allegheny Interstate Line Company, Transource West Virginia, LLC, UGI Utilities, Inc., Monongahela Power Company, The Potomac Edison Company, Commonwealth Edison Company, Commonwealth Edison Company of Indiana, Inc., The Dayton Power and Light Company, AEP Appalachian Transmission Company, Inc., AEP Indiana Michigan Transmission Company, Inc. AEP Kentucky Transmission Company, Inc., AEP Ohio Transmission Company, Inc., AEP West Virginia Transmission Company, Inc., Appalachian Power Company, Indiana Michigan Power Company, Kentucky Power Company, Kingsport Power Company, Ohio Power Company, Wheeling Power Company, Duquesne Light Company, Virginia Electric and Power Company, Linden VFT, LLC, City of Cleveland, Department of Public Utilities, Division of Cleveland Public Power, City of Hamilton, OH, Southern Maryland Electric Cooperative, Inc., Ohio Valley Electric Corporation, AMP Transmission, LLC, Silver Run Electric, LLC, NextEra Energy Transmission MidAtlantic Indiana, Inc., Wabash Valley Power Association, Inc. and Keystone Appalachian Transmission Company.
| AD24-11-000 | Large Loads Co-Located at Generating Facilities.
| EL25-20-000 | Constellation Energy Generation, LLC v. (Consolidated) PJM Interconnection, L.L.C.
E-2 | ER26-173-000 | Daylight II, LLC.
| ER26-174-000 | Daylight II-A, LLC.
| ER26-175-000 | Daylight III, LLC.
| ER26-176-000 | EdSan MV Holding Company C, LLC.
E-3 | ER11-2508-028 | GenOn Energy Management, LLC.
| ER19-1865-002 | Blossburg Power, LLC.
| ER19-2142-003 | Brunot Island Power, LLC.
| ER21-573-003 | Chalk Point Power, LLC.
| ER20-1887-002 | Chalk Point Steam, LLC.
| ER21-574-003 | Dickerson Power, LLC.
| ER19-1411-002 | GenOn Bowline, LLC.
| ER19-1415-004 | GenOn California South, LP.
| ER19-1417-003 | GenOn Power Midwest, LP.
| ER19-1414-004 | GenOn REMA, LLC.
| ER19-2143-003 | Gilbert Power, LLC.
| ER19-1866-002 | Hamilton Power, LLC.
| ER19-2148-004 | Heritage Power Marketing, LLC.
| ER19-1867-002 | Hunterstown Power, LLC.
| ER21-568-001 | Lanyard Power Holdings, LLC.
| ER21-575-003 | Lanyard Power Marketing, LLC.
| ER21-577-003 | Morgantown Power, LLC.
| ER21-578-003 | Morgantown Station, LLC.
| ER19-2147-003 | Mountain Power, LLC.
| ER19-2141-003 | New Castle Power, LLC.
| ER19-1868-002 | Niles Power, LLC.
| ER19-1869-002 | Orrtanna Power, LLC.
| ER19-2145-003 | Portland Power, LLC.
| ER19-2144-003 | Sayreville Power, LLC.
| ER19-1870-002 | Shawnee Power, LLC.
| ER19-2140-003 | Shawville Power, LLC.
| ER19-1871-002 | Titus Power, LLC.
| ER19-1872-002 | Tolna Power, LLC.
| ER19-2146-003 | Warren Generation, LLC.
E-4 | ER26-427-000 | Ratts 2 Solar LLC.
E-5 | EL24-96-000 | Sierra Club; Natural Resources Defense Council, Inc.; and Sustainable FERC Project v. Southwest Power Pool, Inc.
E-6 | ER10-2126-008, ER10-2126-009, EL24-62-000, EL25-14-000 | Idaho Power Company.
E-7 | ER10-2895-024 | Bear Swamp Power Company LLC.
| ER14-1964-015 | BIF II Safe Harbor Holdings, LLC.
| ER16-287-010 | BIF III Holtwood LLC.
| ER12-161-026 | Bishop Hill Energy LLC.
| ER20-2028-001 | Bitter Ridge Wind Farm, LLC.
| ER13-2143-017 | Black Bear Development Holdings, LLC.
| ER10-3167-017 | Black Bear Hydro Partners, LLC.
| ER13-203-016 | Black Bear SO, LLC.
| ER12-2068-021 | Blue Sky East, LLC.
| ER17-482-009 | BREG Aggregator LLC.
| ER19-1074-009 | Brookfield Energy Marketing Inc.
| ER10-1427-003 | Brookfield Energy Marketing LP.
| ER20-1447-005 | Brookfield Energy Marketing US LLC.
| ER10-2917-024 | Brookfield Power Piney & Deep Creek LLC.
| ER19-1075-009 | Brookfield Renewable Energy Marketing US LLC.
| ER19-529-009 | Brookfield Renewable Trading and Marketing LP.
| ER13-1613-017 | Brookfield White Pine Hydro LLC.
| ER10-2460-022 | Canandaigua Power Partners, LLC.
| ER10-2461-023 | Canandaigua Power Partners II, LLC.
| ER10-2918-025 | Carr Street Generating Station, L.P.
| ER10-2920-025 | Erie Boulevard Hydropower, L.P.
| ER12-682-023 | Erie Wind, LLC.
| ER10-2463-021 | Evergreen Wind Power, LLC.
| ER11-2201-027 | Evergreen Wind Power III, LLC.
| ER22-192-003 | Evolugen Trading and Marketing LP.
| ER10-2921-024 | Great Lakes Hydro America, LLC.
| ER10-2922-024 | Hawks Nest Hydro LLC.
| ER13-17-021 | Niagara Wind Power, LLC.
| ER10-2966-024 | Rumford Falls Hydro LLC.
| ER11-2383-020 | Safe Harbor Water Power Corporation.
| ER12-1311-021 | Stetson Holdings, LLC.
| ER10-2466-022 | Stetson Wind II, LLC.
| ER22-1010-002 | TerraForm IWG Acquisition Holdings II, LLC.
| ER11-4029-021 | Vermont Wind, LLC.
E-8 | ER10-3058-005 | Pinelawn Power, LLC.
| ER10-3066-005 | Edgewood Energy, LLC.
| ER22-296-002 | Jackson Generation, LLC.
| ER10-3059-005 | Equus Power I, L.P.
| ER10-3065-005 | Shoreham Energy, LLC.
| ER10-2309-007 | Elwood Energy LLC.
E-9 | ER21-42-002 | Tenaska Power Services Co.
E-10 | ER21-57-003 | Shell Energy North America (US), L.P.
Gas
G-1 | IS25-634-001 | Epping Transmission Company, LLC.
G-2 | PR25-53-001 | Northern Indiana Public Service Company.
G-3 | PR25-52-001 | Consumers Energy Company.
G-4 | PR25-11-002, PR25-11-001, PR25-11-000 | Matterhorn Express Pipeline, LLC.
G-5 | OR25-2-000 | Antero Resources Corporation.
Hydro
H-1 | P-2246-104 | Yuba County Water Agency Village.
H-2 | P-2561-057 | Sho-Me Power Electric Cooperative.
Certificates
C-1 | CP25-205-000 | Golden Pass LNG Terminal LLC.
C-2 | CP26-6-000 | West Texas Gas Utility, LLC and Texas Pipeline Exports, LLC
C-3 | CP26-7-000 | West Texas Gas Utility, LLC and Texas Pipeline Exports, LLC.
C-4 | CP26-8-000 | West Texas Gas Utility, LLC and Texas Pipeline Exports, LLC.
C-5 | CP25-60-000 | Mountain Valley Pipeline, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Dated: December 11, 2025.
Carlos D. Clay,
Deputy Secretary.

[FR Doc. 2025-22956 Filed 12-12-25; 11:15 am]

BILLING CODE 6717-01-P